DEPARTMENT OF JUSTICE

Notice of Lodging of Consent Decree Pursuant to the Comprehensive Environmental Response, Compensation and Liability Act

In accordance with Departmental policy, 28 CFR 50.7, 38 FR 19029, and 42 U.S.C. 9622(d), notice is hereby given that on August 30, 2000, a proposed consent decree in United States versus Burton Shaffer, et al., Civil Action No. 95-10023MLW, was lodged with the United States District Court for the District of Massachusetts. The proposed consent decree resolves certain claims under sections 106 and 107 of the Comprehensive Environmental Response, Compensation, and Liability Act (“CERCLA”), 42 U.S.C. 9606 and 9607, regarding the release and/or threat of release of hazardous substances at and from the Shaffer Landfill Operable Unit of the Iron Horse Park Superfund Site in Billerica, Massachusetts. The settlers are owners/operators, generators and transporters involved with the disposal of hazardous substances at the Shaffer Landfill.

Pursuant to the proposed settlement, the performing settling defendants shall reimburse the United States for certain past response costs; pay future oversight costs; construct the Record of Decision for the Shaffer Landfill Operable Unit; implement operation and maintenance for 40 years; and perform certain groundwater monitoring. A group of cashout settling defendants shall collectively pay a total of $627,234.40 to the United States, the Commonwealth of Massachusetts and the performing settling defendants. The cashout amount is based on the limited financial resources of these parties.

The Department of Justice will receive for a period of thirty (30) days from the date of this publication comments relating to the proposed consent decree. Comments should be addressed to the Assistant Attorney General of the Environment and Natural Resources Division, Department of Justice, P.O. Box 7611, Benjamin Franklin Station, Washington, DC 20044, and should refer to United States versus Burton Shaffer, et al., Civil Action No. 95-10023MLW, D.J. Ref. 90-11-3-90C.

The proposed consent decree may be examined at either of the following locations: (1) the Boston Office of the United States Attorney, District of Massachusetts; or (2) Region I, Office of the Environmental Protection Agency, One Congress Street, Boston, Massachusetts. A copy of the consent decree can be obtained by mail (without attachments) from the Department of Justice Consent Decree Library, P.O. Box 7611, Washington, DC 20044. In requesting a copy of the consent decree (without attachments), please enclose a check in the amount of $50.00 (25 cents per page reproduction cost) payable to the Consent Decree Library.

Bruce Gelber,
Deputy Chief, Environmental Enforcement Section, Environment and Natural Resources Division.

[FR Doc. 00-24081 Filed 9-19-00; 8:45 am]

BILLING CODE 4410-15-M